LIBRARY OF CONGRESS

Copyright Office

[Docket No. 2011-1]

Cable Statutory License: Specialty Station List

AGENCY: Copyright Office, Library of Congress.

ACTION: Notice of specialty station filings.

SUMMARY: The Copyright Office is publishing an initial list of television stations listed in filed affidavits in which the owner or licensee of the television station attests that the station qualifies as a specialty station in accordance with the Federal Communications Commission's (“FCC”) definition of specialty station in effect on June 24, 1981, and is requesting any objections to an owner's claim of specialty station status be filed with the Copyright Office. The final list shall be used to verify the specialty station status of those television stations identified as such by cable systems on their semi-annual statements of account.

DATES: Comments or objections must be received within May 23, 2011.

ADDRESSES: Comments or objections shall be submitted electronically. To meet accessibility standards, all filings must be uploaded in a single file in either the Adobe Portable Document File (PDF) format that contains searchable, accessible text (not an image); Microsoft Word; WordPerfect; Rich Text Format (RTF); or ASCII text file format (not a scanned document). Comments or objections should be sent via e-mail to the following address: licensing@loc.gov. Persons who are unable to file electronically should contact Tracie Coleman of the Licensing Division at 202-707-8150 to make alternative arrangements.

FOR FURTHER INFORMATION CONTACT: Ben Golant, Assistant General Counsel, and Tanya M. Sandros, Deputy General Counsel, Copyright GC/I&R, P.O. Box 70400, Southwest Station, Washington, DC 20024. Telephone: (202) 707-8380. Telefax: (202) 707-8366.

SUPPLEMENTARY INFORMATION: Under the cable statutory license, a cable operator may carry the signal of a television station classified as a specialty station at the base rate rather than at the higher 3.75% rate that is incurred for the carriage of a non-permitted signal. 37 CFR 256.2(c). Specialty station status is determined by reference to the former regulations of the FCC which defined a specialty station as “a commercial television broadcast station that generally carries foreign-language, religious, and/or automated programming in one-third of the hours of an average broadcast week and one-third of the weekly prime-time hours.” 47 CFR 76.5(kk) (1981). The FCC no longer determines whether a station qualifies as a specialty station; however, the Copyright Office still keeps an active list because it remains relevant to the cable statutory license scheme.

The Copyright Office published its first specialty station list in 1990 under a procedure which allowed the owner of the station to file an affidavit with the Office attesting to the fact that the station's programming comports with the 1981 FCC definition, and hence, qualifies it as a specialty station. 55 FR 40021 (October 1, 1990). The Office agreed at that time to periodically update the list.

Accordingly, on January 28, 2011, the Copyright Office published a notice asking the owner, or a valid agent of the owner, to file a sworn affidavit stating that the station's programming satisfies the FCC's former requirements for specialty station status. 76 FR 5213 (January 28, 2011).

The Office has received affidavits from 63 broadcast stations for which the owner or licensee of the television station had filed the requested affidavit. Any party objecting to any claim to specialty station status must submit comments with the Office, per the filing instructions noted above, stating his or her objections within thirty days of publication of this Notice in the Federal Register.

Once the list is published, the Copyright Office Licensing examiners shall refer to it in examining a statement of account where a cable system operator claims specialty station status for a particular station. If a cable system operator claims specialty station status for a station not on the published final list, the examiner must determine whether the owner of the station has filed an affidavit since publication of the final list. Affidavits received after publication of the final annotated list shall become part of the public file maintained by the Licensing Division of the Copyright Office. Any interested party may file an objection to any such later-filed affidavit and the objection shall be filed together with the corresponding affidavit.

List of Specialty Stations: Call Letter and Cities of License

CBAFT, Moncton, New Brunswick, Canada

CBFT, Montreal, Quebec, Canada

CBKFT, Regina, Saskatatchewan, Canada

CBLFT, Toronto, Ontario, Canada

CBOFT, Ottawa, Ontario, Canada

CBUFT, Vancouver, British Columbia, Canada

CBVT, Quebec City, Quebec, Canada

CBWFT, Winnipeg, Manitoba, Canada

CBXFT, Edmonton, Alberta, Canada

CHLT-TV, Sherbrooke, Quebec, Canada

CIMT, Riviere-du-Loup, Quebec, Canada

CJBR, Rimouski, Quebec, Canada

CKSH, Sherbrooke, Quebec, Canada

CKTM, Trois-Rivieres, Quebec, Canada

CKTV, Saguenay, Quebec, Canada

K24IC-D, Bellingham, WA

KAZA-DT, Avalon, CA

KBBC-TV, Bishop, CA

KBCB-TV, Bellingham, WA

KBFD-DT, Honolulu, HI

KBKF-LP, San Jose, CA

KDBK-LP, Caliente, CA

KEBK-LP, Bakersfield, CA

KEFM-LP, Chico, CA

KFIQ-LP, Lubbock, TX

KFMP-LP, Lubbock, TX

KHTV-LP, Los Angeles, CA

KILA-LP, Cherry Valley, CA

KMRZ-LP, Moreno Valley, CA

KNET-CA, Los Angeles, CA

KNLA-LP, Los Angeles, CA

KNNN-LP, Redding, CA

KRMV-LP, Walnut, CA

KRPE-LP, Banning, CA

KRVD-LP, Banning, CA

KSCZ-LP, Greenfield, CA

KSFV-CA, Los Angeles, CA

KSGO-LP, Chico, CA

KSXC-LP, S. Sioux City, NE

KTSF, San Francisco, CA

KWHY-TV, Los Angeles, CA

KWTA-LP, Tucson, AZ

W20CM, Port Jervis, NY

W26DB, Port Jervis, NY

W34DI, Port Jervis, NY

W42CX, Port Jervis, NY

W46DQ, Port Jervis, NY

W49DK, Port Jervis, NY

W52DW, Port Jervis, NY

W59EA, Port Jervis, NY

WBPA-LP, Pittsburgh, PA

WBQD-LP, Davenport, IA

WCHU-LP, Chicago, IL

WHCT-LP, Hartford/Springfield, CT

WLFM-LP, Chicago, IL

WLJC-TV, Beattyville, KY

WNJJ-LD, Paterson, NJ

WNYA-CA, Kinderhook, NY

WPRU-LP, Aguadilla, P.R.

WSJP-LP, Aguadilla, P.R.

WSJX-LP, Aguadilla, P.R.

WVXF(TV), Charlotte Amalie, USVI

WXOX-LP, Cleveland, OH

Dated: April 18, 2011.
Maria A. Pallante,
Acting Register of Copyrights.

[FR Doc. 2011-9806 Filed 4-21-11; 8:45 am]

BILLING CODE 1410-30-P